DEPARTMENT OF ENERGY

Federal Energy Regulatory Commission

[Docket No. CP03-38-000]

Northern Natural Gas Company and Natural Gas Pipeline Company of America; Notice of Application

January 24, 2003.

Take notice that on January 9, 2003, Northern Natural Gas Company (Northern), 1111 South 103rd Street, Omaha, Nebraska 68124-1000 and Natural Gas Pipeline Company of America (Natural), 747 East 22nd Street, Lombard, Illinois 60148, filed in Docket No. CP03-38-000 a joint abbreviated application pursuant to Section 7(b) of the Natural Gas Act (NGA) and the Federal Energy Regulatory Commission's (Commission) Regulations thereunder requesting permission and approval to abandon effective January 7, 2003, an exchange service under Northern's Rate Schedule X-82 and Natural's Rate Schedule X-85 jointly authorized in Docket No. CP81-64-000.

Specifically, Northern and Natural explain that they are parties to a gas exchange agreement dated May 5, 1980, pursuant to which natural gas was delivered to various small customers in Mills County, Iowa via an exchange arrangement. Northern and Natural state that these customers are currently being supplied with gas in a manner that no longer requires the use of the exchange arrangement. Northern and Natural state that by a termination agreement dated January 7, 2003, they agreed to terminate their gas exchange agreement.

This filing is available for review at the Commission in the Public Reference Room or may be viewed on the Commission's Web site http://www.ferc.gov using the “FERRIS” link. Enter the docket number excluding the last three digits in the docket number field to access the document. For assistance, please contact FERC Online Support at FERCOnlineSupport@ferc.gov or toll-free at (866)208-3676, or for TTY, contact (202) 502-8659.

Any person desiring to intervene or to protest this filing should file on or before the comment date with the Federal Energy Regulatory Commission, 888 First Street, Washington, DC 20426, in accordance with Rules 211 and 214 of the Commission's Rules of Practice and Procedure (18 CFR 385.211 and 385.214) and the regulations under the Natural Gas Act (18 CFR 157.10). Protests will be considered by the Commission in determining the appropriate action to be taken, but will not serve to make the Protestants parties to the proceeding. Any person wishing to become a party must file a motion to intervene. All such motions or protests should be filed and, to the extent applicable, must be served on the applicant and on any other person designated on the official service list.

Protests and interventions may be filed electronically via the Internet in lieu of paper; see 18 CFR 385.2001(a)(1)(iii) and the instructions on the Commission's Web site under the “e-Filing” link. The Commission strongly encourages electronic filings.

Comment Date: February 14, 2003.

Magalie R. Salas,
Secretary.

[FR Doc. 03-2232 Filed 1-29-03; 8:45 am]

BILLING CODE 6717-01-P